DEPARTMENT OF HOMELAND SECURITY

Federal Emergency Management Agency

44 CFR Part 67

[Docket ID FEMA-2008-0020; Internal Agency Docket No. FEMA-B-1051]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before August 24, 2009.

ADDRESSES: The corresponding preliminary Flood Insurance Rate Map (FIRM) for the proposed BFEs for each community are available for inspection at the community's map repository. The respective addresses are listed in the table below.

You may submit comments, identified by Docket No. FEMA-B-1051, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.: Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Jefferson County, Alabama, and Incorporated Areas
Dry Creek | Approximately 630 feet upstream of Navajo Trail NE | +720 | +722 | City of Center Point.
| Just upstream of Chalkville Mountain Road | None | +958
Griffin Brook | Approximately 800 feet upstream of Lakeshore Drive | +634 | +631 | City of Homewood.
| Approximately 90 feet upstream of Montgomery Highway | None | +788
Huckleberry Branch | Approximately 200 feet downstream of Tyler Road | +516 | +514 | City of Hoover, City of Vestavia Hills.
| Approximately 1,500 feet upstream of Mountain Oaks Drive | +824 | +814
Little Shades Creek (Cahaba Basin) | Approximately 930 feet upstream of Loch Haven Drive | +431 | +432 | City of Hoover, City of Mountain Brook, City of Vestavia Hills.
| Just upstream of Pipe Line Road | +625 | +626
Little Shades Creek (Shades Creek) | Just downstream of Wenonah Oxmoor Road | +515 | +514 | City of Bessemer, City of Birmingham.
| Approximately 2.3 miles downstream of Alabama Highway 150 | +633 | +632
Patton Creek | Approximately 0.6 miles downstream of Alabama Highway 150 | +424 | +423 | City of Hoover, City of Vestavia Hills.
| Approximately 310 feet downstream of West Ridge Drive | +534 | +533
Pinchgut Creek | Approximately 0.7 miles downstream of Watterson Parkway | +690 | +691 | City of Birmingham, City of Trussville.
| Approximately 2.0 miles upstream of Gadsden Highway | +850 | +846
Turkey Creek | Approximately 0.7 miles downstream of Old Bradford Road | +566 | +565 | City of Center Point, City of Clay, City of Pinson.
| Approximately 950 feet upstream of Eagle Ridge Drive | +880 | +885
Unnamed Creek 10 | Approximately 515 feet downstream of Main Street | +605 | +607 | City of Center Point, City of Pinson.
| Approximately 90 feet downstream of Houston Road | +671 | +667
Unnamed Creek 11 | Just upstream of Center Point Road | +627 | +626 | City of Center Point, City of Pinson.
| Approximately, 1610 feet upstream of Green Crest Drive | +690 | +692
Unnamed Creek 9 | Just downstream of Alabama Highway 151 | +591 | +590 | City of Center Point.
| Just downstream of Pinson Heights Road | +630 | +631
Valley Creek | Approximately 0.5 miles downstream of Power Plant Road | None | +431 | City of Bessemer.
| Approximately 0.5 miles upstream of Power Plant Road | None | +440
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bessemer
Maps are available for inspection at 1800 Third Avenue North, Bessemer, AL 35020.
City of Birmingham
Maps are available for inspection at 710 20th Street North, Birmingham, AL 35203.
City of Center Point
Maps are available for inspection at 2209 Center Point Parkway, Center Point, AL 35215.
City of Clay
Maps are available for inspection at 6757 Old Springville Road, Pinson, AL 35126.
City of Homewood
Maps are available for inspection at 1903 29th Avenue South, Birmingham, AL 35209.
City of Hoover
Maps are available for inspection at 100 Municipal Drive, Hoover, AL 35236.
City of Mountain Brook
Maps are available for inspection at 56 Church Street, Mountain Brook, AL 35213.
City of Pinson
Maps are available for inspection at 4410 Main Street, Pinson, AL 35126.
City of Trussville
Maps are available for inspection at 131 Main Street, Trussville, AL 35173.
City of Vestavia Hills
Maps are available for inspection at 513 Montgomery Highway, Vestavia Hills, AL 35085.
La Plata County, Colorado, and Incorporated Areas
Grimes Creek | Approximately 0.5 miles downstream of County Road 501 | +7674 | +7674 | Unincorporated Areas of La Plata County.
| Approximately 1,400 feet upstream of West Grimes Creek Road | +7779 | +7776
Junction Creek | Pleasant Drive in Durango | +6641 | +6659 | Unincorporated Areas of La Plata County.
| Approximately 0.2 miles upstream of National Forest Boundary | +6994 | +6996
Los Pinos River | Approximately 1.2 miles downstream of Highway 160B | +6829 | +6826 | Unincorporated Areas of La Plata County.
| Upstream Limit of Detailed Study at Vallecito Reservoir Dam | None | +7533
Los Pinos River | Approximately 1,200 feet downstream of Highway 160B | +6865 | +6863 | Town of Bayfield.
| Downstream face of Highway 160 Bridge | +6891 | +6895
Middle Creek | Approximately 0.6 miles downstream of County Road 501 | +7674 | +7674 | Unincorporated Areas of La Plata County.
| West Grimes Creek Road | +7718 | +7717
Vallecito Creek | Approximately 0.5 miles downstream of County Road 501 | +7674 | +7674 | Unincorporated Areas of La Plata County.
| Vallecito Campground/National Forest Boundary | +7922 | +7918
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Bayfield
Maps are available for inspection at P.O. Box 80, Bayfield, CO 81122.
Unincorporated Areas of La Plata County
Maps are available for inspection at 1060 East 2nd Avenue, Durango, CO 81301.
Will County, Illinois, and Incorporated Areas
Des Plaines River | Approximately 2,700 feet downstream of McKinley Woods Road (extended) | +511 | +510 | Village of Channahon, City of Joliet, Unincorporated Areas of Will County.
| Brandon Road Lock and Dam | +515 | +512
DuPage River | At confluence with Des Plaines River | +512 | +511 | Village of Channahon, Unincorporated Areas of Will County.
| Approximately 2,700 feet downstream of Bridge Street | +512 | +511
Illinois & Michigan Canal (backwater from Des Plaines River) | The area surrounded in a clockwise direction by Hickory Creek, Des Plaines River, Interstate 80, and 250 feet east of Joliet Street | None | #3 | City of Joliet, Unincorporated Areas of Will County.
Illinois & Michigan Canal (backwater from Des Plaines River) | The area surrounded in a clockwise direction by Interstate 80, Des Plaines River, approximately 900 feet north of Columbia Street, and Eastern Avenue | None | #1 | City of Joliet.
Jackson Creek | At confluence of Jackson Creek and Jackson Branch Creek | None | +627 | Village of Frankfort, Unincorporated Areas of Will County.
| 104th Avenue | None | +752
Rock Run South | At confluence with Des Plaines River | +513 | +512 | City of Joliet.
| Approximately 2,325 feet downstream of U.S. Route 6 | +513 | +512
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Joliet
Maps are available for inspection at City Hall, 150 West Jefferson Street, Joliet, IL 60432.
Unincorporated Areas of Will County
Maps are available for inspection at the Will County Land Use Department, 58 East Clinton Street, Joliet, IL 60432.
Village of Channahon
Maps are available for inspection at the Channahon Village Hall, 24555 South Navajo Drive, Channahon, IL 60410.
Village of Frankfort
Maps are available for inspection at the Frankfort Village Hall, 432 West Nebraska Street, Frankfort, IL 60423.
Jones County, Mississippi, and Incorporated Areas
Tallahala Creek | Approximately 800 feet upstream of Luther Hill Road | None | +219 | City of Laurel, Unincorporated Areas of Jones County.
| Approximately 1,000 feet upstream of U.S. Highway 84 | None | +228
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Laurel
Maps are available for inspection at the City Clerk's Office, 401 North 5th Avenue, Laurel, MS 39440.
Unincorporated Areas of Jones County
Maps are available for inspection at the Jones County Courthouse, 415 North 5th Avenue, Laurel, MS 39440.
Lincoln County, Mississippi, and Incorporated Areas
Stream 2 | Approximately 800 feet downstream of Williams Street | None | +444 | Lincoln County.
Stream 5 | Approximately 850 feet downstream of railroad | None | +464 | Lincoln County.
Stream 6 | Approximately 1,100 feet downstream of North Jackson Street | None | +465 | Lincoln County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Lincoln County
Maps are available for inspection at 300 South 2nd Street, Brookhaven, MS 39601.
Sequatchie County, Tennessee, and Incorporated Areas
Big Brush Creek | At the confluence with Sequatchie River | None | +702 | Sequatchie County.
| Just upstream of Union Road | None | +784
Little Brush Creek | Approximately 0.4 miles downstream of Old Union Road | None | +791 | Sequatchie County.
| Approximately 588 feet upstream of Old Union Road | None | +825
Sequatchie River | Just downstream of U.S. Highway 127 | None | +690 | Sequatchie County.
| Approximately 651 feet upstream of the confluence with Big Brush Creek | None | +702
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSESS
Sequatchie County
Maps are available for inspection at the County Courthouse, 307 Cherry Street East, Dunlap, TN 37327.

(Catalog of Federal Domestic Assistance No. 97.022, “Flood Insurance.”)

Dated: May 14, 2009.
Deborah S. Ingram,
Acting Deputy Assistant Administrator for Mitigation, Mitigation Directorate, Department of Homeland Security, Federal Emergency Management Agency.

[FR Doc. E9-12108 Filed 5-22-09; 8:45 am]

BILLING CODE 9110-12-P